DEPARTMENT OF COMMERCE

National Oceanic and Atmospheric Administration

50 CFR Part 622

[I.D. 060805B]

RIN 0648-AP51

Fisheries of the Caribbean, Gulf of Mexico, and South Atlantic; Comprehensive Amendment to the Fishery Management Plans of the U.S. Caribbean

AGENCY: National Marine Fisheries Service (NMFS), National Oceanic and Atmospheric Administration (NOAA), Commerce.

ACTION: Notification of availability of FMP amendment.

SUMMARY: The Caribbean Fishery Management Council (Council) has submitted a comprehensive amendment to its Spiny Lobster, Queen Conch, Reef Fish, and Coral Fishery Management Plans (FMPs) for review, approval, and implementation by NMFS. The amendment proposes to: establish management strategies to end overfishing and rebuild overfished stocks; require standardized collection of bycatch data; minimize bycatch and bycatch mortality to the extent practicable; designate essential fish habitat (EFH) and EFH habitat areas of particular concern (EFH-HAPCs) for managed stocks; and minimize, to the extent practicable, adverse effects on such habitat caused by fishing. The Council is proposing these actions to support the objectives of the Council's Spiny Lobster, Queen Conch, Reef Fish, and Coral FMPs. The intended effect of these proposed actions is to achieve optimum yield in the fisheries and provide social and economic benefits associated with maintaining healthy fishery stocks.

DATES: Written comments must be received no later than 5 p.m., eastern time, on August 15, 2005.

ADDRESSES: You may submit comments by any of the following methods:

• E-mail: 0648-AP51.NOA@noaa.gov. Include in the subject line the following document identifier: 0648-AP51-NOA.

• Federal e-Rulemaking Portal: http://www.regulations.gov. Follow the instructions for submitting comments.

• Mail: Steve Branstetter, Southeast Regional Office, NMFS, 263 13th Avenue South, St. Petersburg, FL 33701.

• Fax: 727-824-5308, Attention: Steve Branstetter.

Copies of the comprehensive amendment, which includes a Final Supplemental Environmental Impact Statement, a Regulatory Impact Review, and an Initial Regulatory Flexibility Analysis are available from the Caribbean Fishery Management Council, 268 Munoz Rivera Avenue, Suite 1108, San Juan, Puerto Rico 00918-2577; telephone: 787-766-5926; fax: 787-766-6239; e-mail: miguelar@coqui.net.

FOR FURTHER INFORMATION CONTACT: Dr. Steve Branstetter, phone: 727-824-5305; fax: 727-824-5308; e-mail: steve.branstetter@noaa.gov.

SUPPLEMENTARY INFORMATION: The Magnuson-Stevens Fishery Conservation and Management Act (Magnuson-Stevens Act) requires each Regional Fishery Management Council to submit any FMP or amendment to NMFS for review and approval, disapproval, or partial approval. The Magnuson-Stevens Act also requires that NMFS, upon receiving a plan or amendment, publish an announcement in the Federal Register notifying the public that the plan or amendment is available for review and comment.

The amendment evaluates the benefits and impacts of a number of alternatives to address the following general categories of actions: (1) Defining fishery management units (FMUs) and sub-units; (2) specifying biological reference points and stock status determination criteria; (3) regulating fishing mortality; (4) rebuilding overfished fisheries; (5) achieving the Magnuson-Stevens Act bycatch mandates; and (6) achieving the Magnuson-Stevens Act EFH mandates.

Fishery Management Units

The amendment proposes to re-define the FMUs and sub-units in the Queen Conch, Reef Fish, and Coral FMPs. The amendment proposes to redefine select FMUs to represent those species present in sufficient numbers in the U.S. EEZ to warrant inclusion in Council FMPs, retain select species in FMUs for data collection only, and define or modify FMU sub-units to include species that are best managed together or as a unit.

Biological Reference Points and Stock Status Criteria

For all managed species (or FMU sub-units), with the exception of those species that would be included in a data collection only category, the amendment proposes to establish or revise values such as maximum sustainable yield (MSY), optimum yield, fishing mortality rate and biomass level ratios, minimum stock size threshold, maximum fishing mortality threshold, and define limit and target control rules.

Rebuilding Strategies

The amendment describes management strategies to rebuild those stocks considered to be overfished, or to protect stocks from becoming overfished. The rebuilding schedules are designed to rebuild these stocks to their biomass at MSY (BMSY) within specified time frames. To achieve these goals, the Council is proposing actions to achieve immediate reductions in fishing mortality including closed seasons and areas, gear restrictions, and administrative actions to foster the development of consistent regulations in state and Federal waters.

Standardized Bycatch Reporting Methodology

The amendment proposes several actions to improve U.S. Caribbean bycatch data collection for fisheries of the region including modifying trip tickets used by the local governments to incorporate bycatch data fields. In addition, management measures are proposed to further reduce bycatch.

Essential Fish Habitat

The amendment describes, identifies, and designates EFH and EFH-HAPCs for managed stocks, and proposes management actions to minimize to the extent practicable adverse effects on such habitat caused by fishing.

A proposed rule that would implement measures outlined in the amendment has been received from the Council. In accordance with the Magnuson-Stevens Act, NMFS is evaluating the proposed rule to determine whether it is consistent with the FMP, the Magnuson-Stevens Act, and other applicable law. If that determination is affirmative, NMFS will publish the proposed rule in the Federal Register for public review and comment.

Comments received by August 15, 2005, whether specifically directed to the comprehensive amendment or the subsequent proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: June 9, 2005.
Alan D. Risenhoover,
Acting Director, Office of Sustainable Fisheries, National Marine Fisheries Service.

[FR Doc. 05-11917 Filed 6-15-05; 8:45 am]

BILLING CODE 3510-22-S